DEPARTMENT OF HOMELAND SECURITY

Coast Guard

33 CFR Part 165

[Docket No. USCG-2021-0537]

Safety Zone; Annual Events Requiring Safety Zones in the Captain of the Port Lake Michigan Zone—Events at Lakeshore State Park

AGENCY: Coast Guard, DHS.

ACTION: Notification of enforcement of regulation.

SUMMARY: The Coast Guard will enforce a safety zone for a swim event taking place at Lakeshore State Park in Milwaukee, WI from August 5 through August 8, 2021, in order to provide for the safety of life on navigable waterways during this event. During the enforcement period, no vessel may enter, move within, or exit the safety zone without permission from the Captain of the Port Lake Michigan or a designated representative.

DATES: The regulations in row (2) of Table 4 to 33 CFR 165.929 will be enforced from 10 a.m. on August 5, 2021, through 5 p.m. on August 8, 2021.

FOR FURTHER INFORMATION CONTACT: If you have questions on this rule, call or email Chief Petty Officer Jeromy Sherrill, Sector Lake Michigan Waterways Management Division, U.S. Coast Guard; telephone 414-747-7148, email Jeromy.N.Sherrill@uscg.mil.

SUPPLEMENTARY INFORMATION: The Coast Guard will enforce to Safety Zones; Annual Events Requiring Safety Zones in the Captain of the Port Lake Michigan Zone listed in 33 CFR 165.929, Table 4(2) for a swimming event taking place within the Lakeshore State Park Lagoon from 10 a.m. on August 5, 2021 through 5 p.m. on August 8, 2021. This action is being taken to provide for the safety of life on navigable waterways during this 3-day swim event. The safety encompasses waters of the Lakeshore State Park Lagoon and the adjacent harbor.

Pursuant to 33 CFR 165.23 and 165.929, entry into, transiting, or anchoring within the safety zone during an enforcement period is prohibited unless authorized by the Captain of the Port Lake Michigan or a designated representative. Those seeking permission to enter the safety zone may request permission from the Captain of Port Lake Michigan via channel 16, VHF-FM. Vessels and persons granted permission to enter the safety zone shall obey the directions of the Captain of the Port Lake Michigan or a designated representative.

This notice of enforcement is issued under authority of 33 CFR 165.929 and 5 U.S.C. 552(a). In addition to this notice of enforcement in the Federal Register, the Coast Guard will provide the maritime community with advance notification of this enforcement period via Broadcast Notice to Mariners or Local Notice to Mariners. If the Captain of the Port Lake Michigan determines that the safety zone need not be enforced for the full duration stated in this notice he may use a Broadcast Notice to Mariners to grant general permission to enter the safety zone.

Dated: July 12, 2021.
D.P. Montoro,
Captain, U.S. Coast Guard, Captain of the Port Lake Michigan.

[FR Doc. 2021-15133 Filed 7-19-21; 8:45 am]

BILLING CODE 9110-04-P